DEPARTMENT OF COMMERCE

National Oceanic and Atmospheric Administration

50 CFR Part 648

[Docket No. 120109034-2171-01]

RIN 0648-XD024

Fisheries of the Northeastern United States; Northeast Multispecies Fishery; Trimester Closure for the Common Pool Fishery

AGENCY: National Marine Fisheries Service (NMFS), National Oceanic and Atmospheric Administration (NOAA), Commerce.

ACTION: Temporary rule; closure.

SUMMARY: This action closes the Gulf of Maine (GOM) haddock Trimester Total Allowable Catch (TAC) Area for Trimester 3, from January 1, 2014, through April 30, 2014, to common pool vessels, because the Trimester 3 TAC for GOM haddock has already been exceeded due to an overage in Trimester 1. This action is intended to prevent the overharvest of the common pool's allocation of GOM haddock.

DATES: The closure of the GOM haddock Trimester TAC Area is effective January 1, 2014, through April 30, 2014.

FOR FURTHER INFORMATION CONTACT: Liz Sullivan, Fishery Management Specialist, 978-282-8493, Fax 978-281-9135.

SUPPLEMENTARY INFORMATION: Regulations governing the Northeast (NE) multispecies fishery are found at 50 CFR part 648, subpart F. The regulations require the NMFS Regional Administrator (RA) to close the Trimester TAC Area for a stock when 90 percent of the Trimester TAC is projected to be caught. The Trimester TAC Area for a stock will close to all common pool vessels fishing with gear capable of catching that stock for the remainder of the trimester. Any overages of a trimester TAC will be deducted from Trimester 3, and any overages of the common pool's sub-annual catch limit (ACL) at the end of the fishing year (FY) will be deducted from the common pool's sub-ACL the following FY.

The FY 2013 common pool sub-ACL for GOM haddock is 2 metric tons (mt; 4,409 lb). In Trimester 1, the common pool caught 1.9 mt (4,260 lb) of GOM haddock, causing the common pool to exceed its Trimester 1 TAC of 0.54 mt (1,190 lb) by 1.4 mt (3,070 lb). Pursuant to regulations, this overage is deducted from Trimester 3, which has a TAC of 0.94 mt (2,072 lb). Because the overage from Trimester 1 was greater than the allowable catch for Trimester 3, Trimester 3 has no allowable catch. Therefore, effective January 1, 2014, the GOM haddock Trimester TAC Area identified in § 648.82(n)(2)(ii)(D) is closed for all of Trimester 3, through April 30, 2014, to all common pool vessels fishing with trawl gear, sink gillnet gear, and longline/hook gear. The GOM haddock Trimester TAC Area will reopen to common pool vessels fishing with trawl, sink gillnet, and longline/hook gear at the beginning of Trimester 1 of FY 2014, on May 1, 2014.

Catch will continue to be monitored through vessel trip reports, dealer-reported landings, vessel monitoring system catch reports, and other available information, and if necessary, additional adjustments to common pool management measures may be made.

Classification

This action is required by 50 CFR part 648, and is exempt from review under Executive Order 12866.

The Assistant Administrator for Fisheries, NOAA (AA), finds good cause pursuant to 5 U.S.C. 553(b)(B) to waive prior notice and the opportunity for public comment because it would be impracticable and contrary to the public interest. Pursuant to 5 U.S.C. 553(d)(3), the AA also finds good cause to waive the 30-day delayed effectiveness period.

The regulations at § 648.82(n)(2)(ii) requires the RA to close a trimester TAC area when 90 percent of the respective Trimester TAC has been caught by common pool vessels. The catch data show that the common pool fishery has already exceeded its Trimester 3 TAC for GOM haddock due to an overage in Trimester 1. As a result, this action reduces the extent of the common pool fishery overage of its sub-ACLs for GOM haddock. Any overages of the common pools sub-ACL for this stock would undermine conservation objectives and trigger the implementation of accountability measures that would have negative economic impacts on the common pool vessels. The catch data supporting this action only recently became available. As a result, the time necessary to provide for prior notice and comment, and a 30-day delay in effectiveness, would prevent NMFS from implementing the necessary Trimester TAC closure in a timely manner, which could undermine conservation objectives of the NE Multispecies Fishery Management Plan, and cause negative economic impacts to the common pool fishery.

Authority: 16 U.S.C. 1801 et seq.

Dated: December 12, 2013.
Sean F. Corson,
Acting Deputy Director, Office of Sustainable Fisheries, National Marine Fisheries Service.

[FR Doc. 2013-30114 Filed 12-17-13; 8:45 am]

BILLING CODE 3510-22-P